DEPARTMENT OF ENERGY

Federal Energy Regulatory Commission

[Docket No. RP03-40-001]

Enbridge Pipelines (AlaTenn) L.L.C.; Notice of Compliance Filing

December 11, 2002.

Take notice that on December 6, 2002, Enbridge Pipelines (AlaTenn) L.L.C. (AlaTenn) tendered for filing as part of its FERC Gas Tariff, Fourth Revised Volume No. 1, First Revised Sheet No. 143; First Revised Sheet No. 144; First Revised Sheet No. 197; and First Revised Sheet No. 198, to be made effective December 1, 2002.

AlaTenn states that the purpose of the filing is to comply with the Commission's Order dated November 20, 2002 in FERC Docket No. RP03-40-000 wherein AlaTenn was directed to file revised tariff sheets when the Commission issues its orders in FERC Docket Nos. RP00-401-000, et al. and RP02-485-000. By its Order dated November 4, 2002, in FERC Docket No. RP02-485-001, the Commission found that AlaTenn's tariff revisions fully comply with the requirements of Order No. 587-O. AlaTenn further states that the proposed tariff sheets include the same language as was contained on the Sheets accepted by the Commission,i.e., Substitute First Revised Sheet Nos. 141, 142, 195 and 196 to its FERC Gas Tariff, Third Revised Volume No. 1.

Any person desiring to protest said filing should file a protest with the Federal Energy Regulatory Commission, 888 First Street, NE., Washington, DC 20426, in accordance with section 385.211 of the Commission's Rules and Regulations. All such protests must be filed in accordance with section 154.210 of the Commission's Regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For Assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Linwood A. Watson, Jr.,
Deputy Secretary.

[FR Doc. 02-31741 Filed 12-17-02; 8:45 am]

BILLING CODE 6717-01-P